DEPARTMENT OF COMMERCE

International Trade Administration

[A-570-122]

Certain Corrosion Inhibitors From the People's Republic of China: Preliminary Results of the Antidumping Duty Administrative Review; 2022-2023

AGENCY: Enforcement and Compliance, International Trade Administration, Department of Commerce.

SUMMARY: The U.S. Department of Commerce (Commerce) preliminarily determines that certain producers and/or exporters made sales of certain corrosion inhibitors (corrosion inhibitors) at less than normal value during the period of review (POR) March 1, 2022, through February 28, 2023. Interested parties are invited to comment on these preliminary results of review.

DATES: Applicable April 3, 2024.

FOR FURTHER INFORMATION CONTACT: Hermes Pinilla and Dusten Hom, AD/CVD Operations, Office I, Enforcement and Compliance, International Trade Administration, U.S. Department of Commerce, 1401 Constitution Avenue NW, Washington, DC 20230; telephone: (202) 482-3477, and (202) 482-5075, respectively.

SUPPLEMENTARY INFORMATION:

Background

On March 19, 2021, Commerce published in the Federal Register the antidumping duty (AD) order on certain corrosion inhibitors from the People's Republic of China (China).¹ On March 2, 2023, Commerce published in the Federal Register a notice of opportunity to request an administrative review of the Order.² On May 9, 2023, based on timely requests for an administrative review, Commerce initiated the administrative review of the Order.³ The administrative review covers 21 companies, including two mandatory respondents, Anhui Trust Chem Co., Ltd., and Nantong Botao Chemical Co., Ltd.⁴

¹ See Certain Corrosion Inhibitors from the People's Republic of China: Antidumping Duty Order, 86 FR 14869 (March 19, 2021) (Order).

² See Antidumping or Countervailing Duty Order, Finding, or Suspended Investigation; Opportunity to Request Administrative Review, 88 FR 13091 (March 2, 2023).

³ See Initiation of Antidumping and Countervailing Duty Administrative Reviews, 88 FR 29881 (May 9, 2023) (Initiation Notice).

⁴ See Memoranda, “Respondent Selection,” dated June 22, 2023.

On October 30, 2023, Commerce extended the deadline for these preliminary results to March 28, 2024.⁵ For a complete description of the events that occurred since the initiation of this review, see the Preliminary Decision Memorandum.⁶ The Preliminary Decision Memorandum is a public document and is on file electronically via Enforcement and Compliance's Antidumping and Countervailing Duty Centralized Electronic Service System (ACCESS). ACCESS is available to registered users at https://access.trade.gov. A list of topics discussed in the Preliminary Decision Memorandum is included in appendix I to this notice. In addition, a complete version of the Preliminary Decision Memorandum can be found at https://access.trade.gov/public/FRNoticesListLayout.aspx.

⁵ See Memorandum, “Extension of Deadline for Preliminary Results,” dated October 30, 2023.

⁶ See Memorandum, “Decision Memorandum for Preliminary Results of the 2022-2023 Antidumping Duty Administrative Review of Certain Corrosion Inhibitors from the People's Republic of China,” dated concurrently with, and hereby adopted by, this notice (Preliminary Decision Memorandum).

Scope of the Order

The products covered by this Order are certain corrosion inhibitors from China. A full description of the scope of the Order is contained in the Preliminary Decision Memorandum.⁷

⁷ Id.

Separate Rates

Commerce preliminarily determines that three companies, not individually examined, are eligible for separate rates in this administrative review.⁸

⁸ See Appendix II; see also Preliminary Decision Memorandum at the “Separate Rate Determination” section for more details.

The Tariff Act of 1930, as amended (the Act) and Commerce's regulations do not address the establishment of a separate rate to be applied to companies not selected for individual examination when Commerce limits its examination in an administrative review pursuant to section 777AI(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available. For the preliminary results of this review, Commerce determined the estimated dumping margins for Anhui Trust Chem Co., Ltd., and affiliates, and Nantong Botao Chemical Co., Ltd to be 11.58, and 8.27 percent, respectively. For the reasons explained in the Preliminary Decision Memorandum, we are assigning the 10.49 percent rate to the three non-examined respondents, Gold Chemical Limited (Gold Chemical); Jiangyin Delian Chemical Co., Ltd. (Delian); Kanghua Chemical Co., Ltd. (Chuzhou Kanghua), which qualify for a separate rate in this review, consistent with Commerce's practice and section 735(c)(5)(A) of the Act.

China-Wide Entity

Commerce's policy regarding the conditional review of the China-wide entity applies to this administrative review.⁹ Under this policy, the China-wide entity will not be under review unless a party specifically requests, or Commerce self-initiates, a review of the entity. Because no party requested a review of the China-wide entity in this review, the entity is not under review, and the entity's assessment rate (i.e., 241.02 percent) is not subject to change.¹⁰ For the reasons explained in the Preliminary Decision Memorandum, Commerce considers all other companies for which a review was requested (none of which filed a separate rate application), listed in Appendix II to this notice, to be part of the China-wide entity.¹¹

⁹ See Antidumping Proceedings: Announcement of Change in Department Practice for Respondent Selection in Antidumping Duty Proceedings and Conditional Review of the Nonmarket Economy Entity in NME Antidumping Duty Proceedings, 78 FR 65963 (November 4, 2013).

¹⁰ See Order.

¹¹ See Appendix II for the list of companies that are subject to this administrative review that are considered to be part of the China-wide entity.

Methodology

Commerce is conducting this review in accordance with section 751(a)(1)(B) of the Act. For a full description of the methodology underlying our conclusions, see the Preliminary Decision Memorandum.

Preliminary Results of the Administrative Review

Commerce preliminarily determines that the following estimated weighted-average dumping margins exist for the administrative review covering the period March 1, 2022, through February 28, 2023:

Exporter | Weighted-average dumping margin (percent)
Anhui Trust Chem Co., Ltd.; Jiangsu Trust Chem Co., Ltd.; Nanjing Trust Chem Co., Ltd | 11.58
Nantong Botao Chemical Co., Ltd | 8.27
Gold Chemical Limited | 10.49
Jiangyin Delian Chemical Co., Ltd | 10.49
Kanghua Chemical Co., Ltd | 10.49

Disclosure and Public Comment

We intend to disclose the calculations performed to parties within five days after publication of this notice.¹² Pursuant to 19 CFR 351.309(c), interested parties may submit case briefs no later than 30 days after the date of publication of this notice. Rebuttal briefs, limited to issues raised in the case briefs, may be filed not later than five days after the date for filing case briefs.¹³ Pursuant to 19 CFR 351.309(d)(2), rebuttal briefs must be limited to issues raised in the case briefs.¹⁴ Interested parties who submit case briefs or rebuttal briefs in this proceeding are must submit: (1) table of contents listing each issue; and (2) a table of authorities.¹⁵

¹² See 19 CFR 351.224(b).

¹³ See 19 CFR 351.309(d); see also Administrative Protective Order, Service, and Other Procedures in Antidumping and Countervailing Duty Proceedings, 88 FR 67069, 67077 (September 29, 2023) (APO and Service Final Rule).

¹⁴ See 19 CFR 351.309; see also 19 CFR 351.303 (for general filing requirements).

¹⁵ See 19 CFR 351.309(c)(2) and (d)(2); see also 19 CFR 351.303 (for general filing requirements).

As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁶ Further, we request that interested parties limit their executive summary of each issue to no more than 450 words, no including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing, limited to issues raised in the case and rebuttal briefs, must submit a written request to the Assistant Secretary for Enforcement and Compliance, U.S. Department of Commerce, within 30 days after the publication of this notice. Requests should contain the party's name, address, telephone number, the number of participants, whether any participant is a foreign national, and a list of the issues to be discussed. If a request for a hearing is made, Commerce will announce the date and time of the hearing.

Final Results of Review

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and U.S. Customs and Border Protection (CBP) shall assess, antidumping duties on all appropriate entries covered by this review.¹⁸ If the preliminary results are unchanged for the final results, we will instruct CBP to apply an ad valorem assessment rate of 241.02 percent to all entries of subject merchandise during the POR which were exported by the companies considered to be a part of the China-wide entity listed in Appendix II of this notice.

¹⁸ See 19 CFR 351.212(b)(1).

For each individually examined respondent in this review whose weighted-average dumping margin in the final results of review is not zero or de minimis (i.e., less than 0.5 percent), Commerce intends to calculate importer/customer-specific assessment rates.¹⁹ Where the respondent reported reliable entered values, Commerce intends to calculate importer/customer-specific ad valorem assessment rates by aggregating the amount of dumping calculated for all U.S. sales to the importer/customer and dividing this amount by the total entered value of the merchandise sold to the importer/customer.²⁰ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²¹ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²²

¹⁹ See Antidumping Proceedings: Calculation of the Weighted Average Dumping Margin and Assessment Rate in Certain Antidumping Proceedings: Final Modification, 77 FR 8101 (February 14, 2012) (Final Modification).

²⁰ See 19 CFR 351.212(b)(1).

²¹ Id.

²² See Final Modification, 77 FR at 8103.

For the respondents that were not selected for individual examination in this administrative review, but which qualified for a separate rate, the assessment rate will be based on the weighted-average dumping margin(s) assigned to the respondent(s) selected for individual examination, as appropriate, in the final results of this review.²³

²³ See Drawn Stainless Steel Sinks from the People's Republic of China: Preliminary Results of the Antidumping Duty Administrative Review and Preliminary Determination of No Shipments: 2014-2015, 81 FR 29528 (May 12, 2016), and accompanying Issues and Decision Memorandum at 10-11, unchanged in Drawn Stainless Steel Sinks from the People's Republic of China: Final Results of Antidumping Duty Administrative Review; Final Determination of No Shipments; 2014-2015, 81 FR 54042 (August 15, 2016).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) for the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping and/or countervailing duties prior to liquidation of the relevant entries during these PORs. Failure to comply with this requirement could result in Commerce's presumption that reimbursement of antidumping and/or countervailing duties occurred and the subsequent assessment of double antidumping duties, and/or an increase in the amount of antidumping duties by the amount of the countervailing duties.

Notification to Interested Parties

Commerce is issuing and publishing these preliminary results of this review in accordance with sections 751(a)(1)(B), 751(a)(3) and 777(i) of the Act, and 19 CFR 351.213(h) and 351.221(b)(4).

Dated: March 28, 2024.
Abdelali Elouaradia,
Deputy Assistant Secretary for Enforcement and Compliance.

Appendix I

List of Topics Discussed in the Preliminary Decision Memorandum

I. Summary

II. Background

III. Scope of the Order

IV. Affiliation and Collapsing

V. Discussions of the Methodology

VI. Adjustment Under Section 777A(f) of the Act

VII. Currency Conversion

VIII. Recommendation

Appendix II

Companies Considered To Be Part of the China-Wide Entity

1. Alfa Aesar China Chemical Co. Ltd.

2. Focus Chemical B.V.

3. Haruno Sangyo Kaisha Ltd.

4. Johoku Chemical Co., Ltd.

5. KD Finechem Co., Ltd.

6. New Essential Corp.

7. Sagar Speciality Chemicals Pvt., Ltd.

8. Shanghai Sunwise Chemicals Pvt., Ltd.

9. Sinochem Pharmaceutical Co., Ltd.

10. Tianjin Jinbin International Trade

11. TotalEnergies Lubrifiants

12. Vcare Medicines

13. Wuxi Base International Trade Co., Ltd.

14. Xiamen Amity Industry & Trade Co., Ltd.

15. Yasho Industries Pvt. Ltd.

16. Zaozhuang Kerui Chemicals Co., Ltd

[FR Doc. 2024-07070 Filed 4-2-24; 8:45 am]

BILLING CODE 3510-DS-P